FEDERAL TRADE COMMISSION

Sunshine Act Meeting Notice

AGENCY: Federal Trade Commission.

Time and Date: 2 p.m., Monday, January 24, 2005.

Place: Federal Trade Commission Building, Room 532, 600 Pennsylvania Avenue, NW., Washington, DC 20580.

Status: Part of this meeting will be open to the public. The rest of the meeting will be closed to the public.

Matters To Be Considered: Portion Open to Public:

(1) Oral Argument in the matter of Kentucky Household Goods Carriers Association, Docket 9309.

Portion Close to the Public:

(2) Executive Session to follow Oral Argument in Kentucky Household Goods Carriers Association, Docket 9309.

Contact Person For More Information: Mitch Katz. Office of Public Affairs: (202) 326-2180. Recorded Message: (202) 326-2711.

Donald S. Clark,
Secretary, (202) 326-2514.

[FR Doc. 05-876 Filed 1-11-05; 4:09 pm]

BILLING CODE 6750-01-M